DEPARTMENT OF ENERGY

Federal Energy Regulatory Commission

Combined Notice of Filings #1

Take notice that the Commission received the following electric corporate filings:

Docket Numbers: EC16-36-000.

Applicants: LWP Lessee, LLC.

Description: Application for Authorization Under Section 203 of the FPA and Request for Waivers, Confidential Treatment, and Expedited Action of LWP Lessee, LLC.

Filed Date: 11/19/15.

Accession Number: 20151119-5242.

Comments Due: 5 p.m. ET 12/10/15.

Take notice that the Commission received the following exempt wholesale generator filings:

Docket Numbers: EG16-22-000.

Applicants: Shelby County Energy Center, LLC.

Description: Notice of Self-Certification as an Exempt Wholesale Generator or FC of Shelby County Energy Center, LLC.

Filed Date: 11/20/15.

Accession Number: 20151120-5066.

Comments Due: 5 p.m. ET 12/11/15.

Take notice that the Commission received the following electric rate filings:

Docket Numbers: ER15-1907-001; ER15-1908-001.

Applicants: Joliet Battery Storage LLC, West Chicago Battery Storage LLC.

Description: Notice of Change in Status and Request for Confidential Treatment of Joliet Battery Storage LLC, et. al.

Filed Date: 11/20/15.

Accession Number: 20151120-5067.

Comments Due: 5 p.m. ET 12/11/15.

Docket Numbers: ER16-360-000.

Applicants: Pacific Gas and Electric Company.

Description: § 205(d) Rate Filing: Concurrence of Revised WECC Unscheduled Flow Mitigation Plan in ER16-193-000 to be effective 1/1/2016.

Filed Date: 11/19/15.

Accession Number: 20151119-5228.

Comments Due: 5 p.m. ET 12/10/15.

Docket Numbers: ER16-361-000.

Applicants: Southern California Edison Company.

Description: § 205(d) Rate Filing: Distribution Service Agreement Camp Rock Solar Farm, LLC Camp Rock PV Project to be effective 1/21/2016.

Filed Date: 11/20/15.

Accession Number: 20151120-5001.

Comments Due: 5 p.m. ET 12/11/15.

Docket Numbers: ER16-362-000.

Applicants: Pleasant Valley Wind, LLC.

Description: Notice of cancellation of MBR tariff of Pleasant Valley Wind, LLC.

Filed Date: 11/20/15.

Accession Number: 20151120-5053.

Comments Due: 5 p.m. ET 12/11/15.

Docket Numbers: ER16-363-000.

Applicants: Madison Gas and Electric Company.

Description: § 205(d) Rate Filing: Market-Based Rate Tariff to be effective 11/23/2015.

Filed Date: 11/20/15.

Accession Number: 20151120-5083.

Comments Due: 5 p.m. ET 12/11/15.

Docket Numbers: ER16-364-000.

Applicants: PacifiCorp.

Description: Tariff Cancellation: Termination of Idaho Power MOU to be effective 1/20/2016.

Filed Date: 11/20/15.

Accession Number: 20151120-5106.

Comments Due: 5 p.m. ET 12/11/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Issued: November 20, 2015.
Nathaniel J. Davis, Sr.,
Deputy Secretary.

[FR Doc. 2015-30135 Filed 11-25-15; 8:45 am]

BILLING CODE 6717-01-P